HARRY S. TRUMAN SCHOLARSHIP FOUNDATION

45 CFR Part 1801

Scholar Accountability Policy

AGENCY: Harry S. Truman Scholarship Foundation.

ACTION: Final rule.

SUMMARY: This final rule adopts the Truman Scholarship Foundation [Foundation] Scholar Accountability Policy. This Accountability Policy clarifies and standardizes Foundation rules governing accountability of an individual selected as a Harry S. Truman Scholar [Scholar] to fulfill his or her obligation to become employed in public service. It requires any Scholar who is selected after January 2005 and who is not employed in public service for three of the seven years immediately following completion of his or her Foundation-funded graduate education to repay to the Foundation an amount equal to the Scholarship stipends received, with interest and any costs of collection.

DATES: This rule is effective July 22, 2005.

ADDRESSES: The final rule and supplemental information will also be posted on the Foundation Web site with links from the For Scholars, For Candidates, and For Fac Reps sections. They also may be obtained by written request to Louis H. Blair, Executive Secretary, Harry S. Truman Scholarship Foundation, 712 Jackson Place, NW., Washington, DC 20006.

FOR FURTHER INFORMATION CONTACT: Louis Blair, Harry S. Truman Scholarship Foundation, 202-395-4831.

SUPPLEMENTARY INFORMATION:

Table of Contents

1. Background of the Harry S. Truman Scholarship

2. History of the Accountability Policy

3. Summary of Comments Received and Foundation Responses

4. Text of Final Rule

1. Harry S. Truman Scholarship Foundation Directives

The Harry S. Truman Memorial Scholarship Act [Act] honored former President Truman by creating “a perpetual education scholarship program to develop increased opportunities for young Americans to prepare for and pursue careers in public service.” 20 U.S.C. 2001. These scholarships are administered by the Foundation, whose purpose is to “[encourage] young people to recognize and provide service in the highest and best traditions of the American political system at all levels of government * * * [and] to develop increased opportunities for young Americans to prepare and pursue careers in public service.” 20 U.S.C. 2001. The Act authorizes the Foundation to “award scholarships to persons who demonstrate outstanding potential for and who plan to pursue a career in public service.” 20 U.S.C. 2005(a)

Under this scholarship program, the Foundation annually selects Scholars from among outstanding college juniors nominated by their college or university. Those selected receive educational stipends from the Foundation.

The Act requires those nominated and selected for a Truman Scholarship to “[indicate] a serious intent to enter the public service upon the completion of his or her educational program.” 20 U.S.C. 2005(d). The Foundation finds evidence of this intent in the nominee's previous record of public service and in his or her signing of a scholarship acceptance agreement, which in past years acknowledged an obligation to “enter public service immediately upon graduation or immediately upon completion of any judicial clerkships(s) after graduation.” A Scholar may continue to receive Foundation financial support only while “devoting full time to study or research designed to prepare him or her for a career in public service.” 20 U.S.C. 2008(a).

While the Foundation's regulations provide that it may suspend or terminate the Scholarship for a student who has a “* * * loss of interest in a career in public service,” 45 CFR 1801.61, it has only done so rarely. As detailed below, the Foundation has lacked an effective mechanism for assuring that Scholars who receive the Foundation's financial support are actually employed in public service.

2. History of the Accountability Policy

While many Scholars pursue a public service career after completing their graduate education, a significant number do not. Because the Foundation has not imposed any reporting requirements on those whose scholarship funding has been completed, the Foundation's knowledge of former Scholars' career choices relies largely on informal contacts with former Scholars. Additionally, a mid-1990's survey (with a 60% response rate) of former Scholars revealed that two-thirds of the Scholars with law school degrees were employed in the private sector at the time of the survey. One quarter of former Scholars with other kinds of graduate degrees were employed in the private sector. This survey confirmed the impressions gleaned from less formal contacts.

The Foundation, using the authority grated in 20 U.S.C. 2012, made several program changes to address the issue of Scholar Accountability.

First, in 1991 the Foundation began selecting Scholars later in their academic career in anticipation that their career plans would be more definitive.

Second, the Foundation established increased public service opportunities for Scholars through programming, Foundation staffing, and enhanced Scholar networks. The Foundation instituted Truman Scholars Leadership Week, Summer Institute, the Public Service Law Conference, and the Truman Fellows program in an effort to increase awareness of additional public service opportunities. The Foundation has also expanded its Web site to include fellowship, scholarship, and employment listings as well as a Scholar database. The Foundation has established relationships with graduate schools, graduate fellowships, and other public service programs in an effort to expand opportunities for Scholars. The Foundation's Associate Executive Secretary maintains contact with the Truman Scholar Association (an organization of Truman Scholar alumni) to further build the Scholar network.

Third, the Foundation attempted to impose repayment requirements—to varying degrees and successes—on some Scholars believed to be particularly at-risk for a loss of interest in the public service.

The first two of these program changes were successful in encouraging more Scholars to pursue public service careers; the last was not and was abandoned. But the success of these programs was not sufficient; a large number of Scholars still failed to enter public service.

In response to Scholar concern, the Foundation convened a forum for interested parties on Saturday, March 22, 2003 in Washington, DC. Approximately 40 people—mostly current or former Scholars—attended. Comments received at that forum, as well as comments solicited through Scholar listservs and on the Web site, were incorporated into a presentation for the Board of Trustees on April 7, 2003.

At that April meeting, the President of the Board of Trustees created the Task Force on Accountability to study the problem of Scholar accountability and make policy recommendations. The Task Force was chaired by a former Truman Scholar who serves also as a member of the Board of Trustees and the Treasurer of the Foundation. The Task Force also included three Truman Scholars and a representative of Foundation Trustee Senator Max Baucus. The Task Force reviewed data provided by the Foundation (including past surveys of Scholars), analyzed material from the Scholar Forum, conducted a survey of past Truman Scholars, and evaluated a variety of approaches to accountability.

The Task Force provided an interim report to the Board of Trustees on August 26, 2003. After discussion, the Board directed the Task Force to produce a final report for the next Board meeting in spring of 2004. The draft report of the Task Force was posted on the Foundation Web site for public comment.

The final report of the Task Force was presented to the Board, along with Scholar comments, on May 7, 2004. The Task Force proposed the policy expressed in this Rule. After unanimous approval by the Board of Trustees, the Foundation staff was directed to develop an implementation strategy for presentation to the Board of Trustees at the fall meeting.

On September 24, 2004, the Associate Executive Secretary presented the implementation strategy to the Board of Trustees. The plan was unanimously approved.

This rule was first published in the Federal Register [January 21, 2005 (Volume 70, Number 13), page 3178-3179], and no comments were received. This rule was published again in the Federal Register [March 14, 2005 (Volume 70, Number 48), page 12436-12437], and twenty-three comments were received. Nine supported and eight opposed the accountability policy. Six commenters posed questions about the proposed rule.

3. Summary of Comments Received and Foundation Responses

Several commenters made more than one point in their comment. As a result, the number of responses listed below exceeds the total number of comments received.

Comment: Nine commenters suggested that the Foundation should focus its efforts elsewhere. Of these responses, five made specific recommendations. Two commenters suggested that the Foundation develop more programs and post-graduate opportunities for Scholars. Another suggested that the Foundation pursue increased funding for the scholarship trust. Another suggested that Scholars be required to file additional annual reports with the Foundation. Another suggested that the Foundation provide funding for the Truman Scholar Association. The remaining four responses did not make specific suggestions.

Foundation Response: The Foundation will continue its efforts to develop and support means in addition to the accountability policy to encourage Scholars to pursue public service careers. For example, concurrent with the development of the accountability policy, the Foundation initiated a one-year fellowship program designed to help Scholars find public service employment in Washington, DC. This fellowship will also allow Scholars to take a graduate level course in public policy development and administration. The Foundation also has developed a new Web site which provides additional post-graduate opportunities for Scholars and enhances Scholar database options to allow alumni to stay in better touch with the Foundation and each other. The Foundation's first priority remains to encourage Scholars to continue with a career in public service, rather than to collect repayments from those who fail to do so.

Increased scholarship funding was considered. However, the Act's legislative history suggests that Congress considered the Foundation's original endowment to be a one-time appropriation. Additionally, members of the Board of Trustees currently serving in Congress advised that current budget deficits made an additional federal funding highly unlikely.

This rule does expand to a limited degree the Foundation's annual report requirements: a Scholar will be required to provide employment information annually to the Foundation until it can be determined whether he or she fulfilled his or her public service commitment. After that, former Scholars are encouraged to submit updates—but are not required to do so under this rule.

Given limited financial resources, the Foundation is not able to provide significant funding to the Truman Scholars Association (TSA) at this time. The Foundation will be providing TSA with access to Foundation databases and will include in the Foundation's Web site a link to the TSA Web site currently under development. The Foundation has also hopes to work with TSA to establish a Scholar mentoring program.

Comment: Three commenters questioned how this policy would be communicated to potential applicants.

Foundation Response: Information regarding the policy is included on the Web site in both the For Candidates and For Fac Reps sections. The policy has also been included in e-mails to Faculty Representatives, on the application materials, and in the Bulletin of Information. The Executive Secretary and Associate Executive Secretary included the policy in talks to potential applicants, Faculty Representatives, and to those engaged in the interview and selection process. The accountability policy also will be explained to newly selected Scholars participating in Truman Scholar Leadership Week.

Comment: Three commenters suggested that there has not been sufficient proof that such a change is needed.

Foundation Response: Perfect data will never be available. While acknowledging the limitations on readily available data, both the Task Force and the Board of Trustees determined that the available information about the ultimate careers chosen by Truman Scholars showed that far too many were eschewing public service careers. Additionally, both the Foundation staff and the Board of Trustees believe that every Truman Scholar should be accountable for fulfilling his or her commitment to public service.

Comment: Two commenters felt that the amount of money given by the program was too little to merit such a policy.

Foundation Response: The Foundation recognizes that the amount of the grant (currently $30,000) is only a portion of the cost of graduate school education. But these are public funds, and the Foundation believes that greater accountability for their use is appropriate.

Comment: One commenter suggested that a former Scholar who was made to repay his or her scholarship stipend would then be unlikely to offer mentoring or assistance to other Scholars.

Foundation Response: This concern is somewhat speculative. A former Scholar may mentor or assist other Scholars, or not, for a host of reasons unrelated to an accountability policy. Those Scholars who are asked to repay scholarship funds under the act are still entitled to identify themselves as Truman Scholars. A Scholar's decision to be employed in the private sector does not diminish the achievements that caused him or her to be selected as a Truman Scholar.

Comment: One commenter suggested that the Foundation should offer a smaller initial grant to all Scholars and provide additional grants to those Scholars who go into careers in public service.

Foundation Response: This option was discussed several times during the development of the accountability policy; it was ultimately rejected for several reasons. First, the Act provides that Scholar may continue to receive Foundation financial support only while “devoting full time to study or research designed to prepare him or her for a career in public service,” (20 U.S.C. 2008(a)), and thus may limit the Foundation's ability to provide financial support to a Scholar not meting that criterion. Second, receiving funds from the Foundation after a former Scholar completes his or her graduate study may create adverse tax consequences and may interfere with his or her ability to participate in loan-forgiveness programs that are income sensitive. Third, a reduction in the Scholarship award would likely lead to fewer and less prestigious applicants. Fourth, this type of active monitoring of Scholars would involve far more Foundation resources and discretion than the passive reporting method selected in the current Rule.

Comment: One commenter stated that the proposed rule is contrary to the language of the “Harry S. Truman Memorial Scholarship Act” and the legislative history surrounding the Act.

Foundation Response: The Act neither expressly requires nor expressly forbids the Foundation from adopting a financial incentive to encourage a Scholar to accept public service employment. Based on a thorough review of the Act's provisions and its legislative history, the Foundation's General Counsel in August 2003 advised the Board of Trustees that the Act authorized the Foundation to adopt a regulation imposing on every scholar who did not enter public service within a specified period after completing his or her graduate studies an obligation to repay the Foundation a specified portion of the funding receive from the Foundation. In adopting this final rule, the Foundation has accepted and relies on this opinion.

Summary of Comments Regarding Specific Sections of the Policy

Regarding 1801.63 (a): A Scholar selected after January 2005 must be employed in public service for three of the seven years following completion of his or her Foundation funded graduate education.

Comment: Seven commenters asked how the Foundation would define public service. Five commenters expressed concern that a narrow definition of public service would lead to either fewer or less prestigious applicants.

Foundation Response: The proposed rule is to be included with other regulations governing the Foundation (45 CFR 1801, et seq.). The Foundation will rely on the definition of public service currently found and codified at 45 CFR 1801.45:

Public service means employment in: governments at any level, the uniformed services, public interest organizations, non-governmental research and/or educational organizations, and non-profit organizations such as those whose primary purposes are to help needy or disadvantaged persons or to protect the environment.

The Foundation adopted this expanded definition of public service to recognize the important contribution to the public interest made by those employed by non-government organizations. The Foundation intends to continue using this broad definition of public service.

Since the Truman Scholarship is, and will continue to be, an award given for public service achievement, it is unlikely that further emphasis on public service will attract less prestigious applicants. Moreover, the more important measure of Scholarship program success is not how many applications are received, but how many of the applicants who are awarded Scholarships actually pursue a career in public service.

Finally, the Foundation notes that those Scholars who are required to repay Scholarship funds still enjoy the prestige associated with having been selected as a Truman Scholar.

Comment: Three commenters suggested that the Foundation should require a Scholar to be employed in public service for a greater period than three of the first seven years following the completion of Foundation funding; and two suggested that the periods chosen were arbitrary.

Foundation Response: The Task Force on Accountability examined various public service career paths and discussed alternatives with Scholars, Board Members, and Foundation staff. The Task Force believe that the accountability policy should provide sufficient flexibility to accommodate a Scholar who needed a period of private sector employment to pay off debt or gain experience, who required time away from employment for family or other reasons, or who wished to change careers. The Task Force recommended these periods of required public service as a way to provide that flexibility, and the Trustees accepted that recommendation.

Regarding 1801.63(b): Following completion of Foundation funded graduate education, Scholars must submit a report to the Foundation by July 15 of each year. This report will include the Scholar's current contact information as well as a brief description of his or her employment during the past twelve months. This reporting requirement ends when the Foundation determines that a Scholar has reported three years of public service employment and the Foundation notifies him or her that he or she no longer is required to submit reports. Scholars who fail for two consecutive years to submit the required report to the Foundation will be considered to have failed to complete the three-year public service requirement of paragraph (a) of this section.

Comment: Four commenters expressed concern over how, and by whom, public or private service would be determined.

Foundation Response: Each Scholar will be asked to fill out an on-line survey on his or her employment, including his or her belief as to whether this employment is in the public or private sector. The Foundation will review the responses, and follow up as appropriate. Any disputed case will be decided by the Executive Secretary. A Scholar will be notified of the decision and given time to appeal to an Appeals Committee made up of non-Foundation staff. Additional guidelines on the appeals process will be posted on the Foundation Web site.

Comment: One commenter stated that the Foundation should keep better data in order to better track whether there is a need for such a policy.

Foundation Response: This policy has been motivated, in part, by a need for the Foundation to be more accountable—both to the Scholars and to the public—by keeping better information on the activities of its Scholars. Currently, the Foundation only requires annual reports from Scholars still eligible to receive scholarship stipends. Once funding is complete, Scholars have no obligation to keep the Foundation informed of their activities. The Accountability Policy will enable the Foundation to keep better data—including information on graduate school, area of employment, additional fellowship or scholarship opportunities, and current contact information. This enhanced Scholar database will be available to all Scholars. The Foundation has expanded the Web site to better keep track of this information.

Regarding 1801.63(c): A Scholar who fails to be employed in public service for three out of the first seven years following completion of his or her Foundation funded graduate education must repay to the Foundation an amount equal to:

(1) All of the Scholarship stipends received,

(2) Interest at the rate of 6% per annum from the date of receipt of each payment until repayment is made to the Foundation, and

(3) Reasonable collection fees.

Comment: Two commenters suggested that the 6% interest rate is arbitrary.

Foundation Response: This figure was selected after reviewing other Federal grants of this type. The repayment schedule most closely resembles that of the James Madison Memorial Foundation (a program which awards grants to educators). After discussion with members of the Board of Trustees, Foundation Legal Counsel, and a consultant hired by the Foundation, the Foundation determined that a low, fixed rate would be most appropriate. Should prevailing interest rates be below 6%—a Scholar can obtain a loan with more favorable terms. Should prevailing interest rates be higher, the Scholar will be protected from having overly burdensome repayment obligations. Additionally, the fixed rate simplifies administration of the repayment program.

Regarding 1801.63(f): Upon application by the Scholar showing good cause for doing so, the Foundation may waive or modify the repayment obligation established by paragraph (c) of this section.

Comment: Three commenters suggested that the Policy would penalize individuals for taking time off to raise a family.

Foundation Response: To the contrary, the waiver provision is intended to provide the Foundation flexibility in accommodating Scholars who are unemployed or who are acting as caregivers. However, these Scholars will still need to report their current activities.

Comment: One commenter suggested that the Foundation should count public service employment before graduate school toward the 3-year service requirement.

Foundation Response: While the Foundation encourages those selected as Scholars (all of whom are undergraduates) to spend time in public service before continuing to graduate school, that service occurs before the Scholar receives the bulk of his or her educational stipend from the Foundation. The Foundation's purpose, and the intent of the accountability policy, is to encourage a public service career after a Scholar completes his or her graduate education. This purpose is best achieved by focusing only on employment in the public service after graduate school.

Comment: One commenter believed that the Foundation should count employment as a law clerk as public service.

Foundation Comment: Under the accountability policy now being adopted, employment as a law clerk would count toward the 3-year service requirement.

Regarding 1801.63(g): The Foundation will establish a process for appealing any disputes concerning the accrual of the repayment obligation imposed by paragraph (c) of this section. The Foundation will publish on its Web site http://www.truman.gov information about this appeals process and other information pertinent to repayment obligations accruing under this § 1801.63.

Comment: Five commenters believed that more guidelines regarding the policy need to be available to potential Scholars.

Foundation Response: The Foundation will develop additional guidelines and rules to implement this policy. Since the policy repayment obligations are unlikely to accrue before 2010, the Foundation is able to begin with a basic outline of the policy. The Foundation intends at a later time to publish additional guidelines on its Web site. Instructions for those wishing to comment on the guidelines will be posted on the Web site as well.

List of Subjects in 45 CFR Part 1801

Grant programs—education, Scholarships and fellowships.

4. Text of Final Rule

The Foundation amends 45 CFR part 1801 as follows:

PART 1801—HARRY S. TRUMAN SCHOLARSHIP PROGRAM

1. The authority citation for 45 CFR part 1801 continues to read as follows:

Authority: Pub L. 93-642, 88 Stat. 2276 (20 U.S.C. 2001-2012).

2. Add § 1801.63 to read as follows:

§ 1801.63 Scholar Accountability

(a) A Scholar selected after January 2005 must be employed in public service for three of the seven years following completion of his or her Foundation funded graduate education.

(b) Following completion of Foundation funded graduate education, Scholars must submit a report to the Foundation by July 15 of each year. This report will include the Scholar's current contact information as well as a brief description of his or her employment during the past twelve months. This reporting requirement ends when the Foundation determines that a Scholar has reported three years of public service employment and the Foundation notifies him or her that he or she no longer is required to submit reports. Scholars who fail for two consecutive years to submit the required report to the Foundation will be considered to have failed to complete the three year public service requirement of paragraph (a) of this section.

(c) A Scholar who fails to be employed in public service for three out of the first seven years following completion of his or her Foundation funded graduate education must repay to the Foundation an amount equal to:

(1) All of the Scholarship stipends received,

(2) Interest at the rate of 6% per annum from the date of receipt of each payment until repayment is made to the Foundation, and

(3) Reasonable collection fees.

(d)(1) The repayment obligation of paragraph (c) of this section accrues on the first July 15 on which it becomes impossible for a Scholar to fulfill the three year public service requirement of paragraph (a) of this section. For example, the repayment obligation would accrue on July 15 of the sixth year following completion of Foundation funded graduate education for a Scholar who has been employed in the public service for only one of those six years.

(2) The Foundation will send to the Scholar's last known address a notice that his or her repayment obligation has accrued. The failure, however, of the Foundation to send, or the Scholar to receive, such a notice does not alter or delay the Scholar's repayment obligation.

(e) The Foundation may employ whatever remedies are available to it to collect any unpaid obligation accruing under this § 1801.63.

(f) Upon application by the Scholar showing good cause for doing so, the Foundation may waive or modify the repayment obligation established by paragraph (c) of this section.

(g) The Foundation will establish a process for appealing any disputes concerning the accrual of the repayment obligation imposed by paragraph (c) of this section. The Foundation will publish on its Web site http://www.truman.gov information about this appeals process and other information pertinent to repayment obligations accruing under this § 1801.63.

Dated: June 16, 2005.
Louis H. Blair,
Executive Secretary.

[FR Doc. 05-12235 Filed 6-21-05; 8:45 am]

BILLING CODE 6820-AD-P